NUCLEAR REGULATORY COMMISSION

Appointments to Performance Review Boards for Senior Executive Service

AGENCY: U.S. Nuclear Regulatory Commission.

ACTION: Appointment to Performance Review Boards for Senior Executive Service.

SUMMARY: The U.S. Nuclear Regulatory Commission (NRC) has announced the following appointments to the NRC Performance Review Boards.

The following individuals are appointed as members of the NRC Performance Review Board (PRB) responsible for making recommendations to the appointing and awarding authorities on performance appraisal ratings and performance awards for Senior Executives and Senior Level employees:

Darren B. Ash, Deputy Executive Director for Information Services and Chief Information Officer;

R. Wiliam Borchardt, Director, Office of New Reactors;

Samuel J. Collins, Regional Administrator, Region I;

Karen D. Cyr, General Counsel;

Timothy F. Hagan, Director, Office of Administration;

Bruce S. Mallet, Deputy Executive Director for Reactor and Preparedness Programs (Designate), Office of the Executive Director for Operations;

William M. McCabe, Chief Financial Officer;

Charles L. Miller, Director, Office of Federal and State Materials and Environmental Management Programs;

Luis A. Reyes, Executive Director for Operations;

Martin J. Virgilio, Deputy Executive Director for Materials, Waste, Research, State, Tribal, and Compliance Programs.

The following individuals will serve as members of the NRC PRB Panel that was established to review appraisals and make recommendations to the appointing and awarding authorities for NRC PRB members:

Stephen G. Burns, Deputy General Counsel, Office of the General Counsel;

Brian W. Sheron, Director, Office of Nuclear Regulatory Research;

Roy P. Zimmerman, Director, Office of Nuclear Security and Incident Response.

All appointments are made pursuant to section 4314 of Chapter 43 of Title 5 of the United States Code.

DATES: Effective Date: September 14, 2007.

FOR FURTHER INFORMATION CONTACT: Secretary, Executive Resources Board, U.S. Nuclear Regulatory Commission, Washington, DC 20555, (301) 492-2076.

Dated at Rockville, Maryland, this 4th day of September, 2007.
For the U.S. Nuclear Regulatory Commission.
James F. McDermott,
Secretary, Executive Resources Board.

[FR Doc. E7-18151 Filed 9-13-07; 8:45 am]

BILLING CODE 7590-01-P